DEPARTMENT OF HEALTH AND HUMAN SERVICES

Centers for Medicare and Medicaid Services

[Document Identifier: CMS-R-215]

Agency Information Collection Activities: Proposed Collection; Comment Request

AGENCY: Centers for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Note: For this submission, CMS is requesting public comments on the information requirements in the Final Rule published October 11, 2000 for “Additional DMEPOS Supplier Standards” only. CMS made an error in the last PRA submission whereas the “Surety Bond” requirements were referenced. Please be advised that all Surety Bond requirements have been removed and are not to be commented on at this time.

Type of Information Collection Request: Revision of a currently approved collection; Title of Information Collection: Information Collection Requirements Referenced in 42 CFR 424.57: Additional DMEPOS Supplier Standards; Form No.: CMS-R-215 (OMB# 0938-0717); Use: The respondents for these information collection requirements are suppliers of durable medical equipment, prosthetics, orthotics and supplies (DMEPOS). CMS requires, upon request, documentation that the DMEPOS supplier has both advised beneficiaries that they may either rent or purchase inexpensive or routinely purchased equipment and discussed the purchase option for capped rental equipment. This criteria is necessary to determine if the supplier has met the supplier standards; Frequency: Annually, On occasion; Affected Public: Business or other for-profit and Not-for-profit institutions; Number of Respondents: 65,400; Total Annual Responses: 35,000; Total Annual Hours: 280,000.

To obtain copies of the supporting statement and any related forms for the proposed paperwork collections referenced above, access CMS's Web Site address at http://www.hcfa.gov/regs/prdact95.htm, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Information Services, Security and Standards Group, Division of CMS Enterprise Standards, Attention: Dawn Willinghan, CMS-R-215, Room N2-14-26, 7500 Security Boulevard, Baltimore, Maryland 21244-1850.

Dated: July 10, 2001.
Julie Brown,
Acting, CMS Reports Clearance Officer, CMS Office of Information Services, Security and Standards Group, Division of CMS Enterprise Standards.

[FR Doc. 01-17877 Filed 7-17-01; 8:45 am]

BILLING CODE 4120-03-P